DEPARTMENT OF ENERGY

Federal Energy Regulatory Commission

Combined Notice of Filings #1

Take notice that the Commission received the following exempt wholesale generator filings:

Docket Numbers: EG23-53-000.

Applicants: Pike Solar, LLC.

Description: Pike Solar, LLC. submits Self-Certification of Exempt Wholesale Generator Status.

Filed Date: 1/6/23.

Accession Number: 20230106-5091.

Comment Date: 5 p.m. ET 1/27/23.

Docket Numbers: EG23-54-000.

Applicants: Black Mesa Energy, LLC.

Description: Black Mesa Energy, LLC submits Notice of Self-Certification of Exempt Wholesale Generator Status.

Filed Date: 1/6/23.

Accession Number: 20230106-5095.

Comment Date: 5 p.m. ET 1/27/23.

Docket Numbers: EG23-55-000.

Applicants: Wildflower Solar, LLC.

Description: Wildflower Solar, LLC. submits Notice of Self-Certification of Exempt Wholesale Generator Status.

Filed Date: 1/6/23.

Accession Number: 20230106-5099.

Comment Date: 5 p.m. ET 1/27/23.

Take notice that the Commission received the following electric rate filings:

Docket Numbers: ER18-1863-014; ER18-1534-011; ER22-2706-002; ER13-752-018; ER21-1879-005; ER10-1852-073; ER10-1857-020; ER10-1899-019; ER10-1932-020; ER10-1935-021; ER13-2147-007; ER22-1553-001; ER15-2601-011; ER22-1454-002; ER14-1630-015; ER18-1535-010; ER11-4462-073; ER17-838-048; ER10-1951-051; ER17-1774-009; ER10-1973-019; ER10-1974-030; ER21-183-006; ER20-2012-006; ER21-2641-005; ER20-2153-008; ER21-744-005.

Applicants: Wallingford Renewable Energy LLC, Sanford Airport Solar, LLC, Quinebaug Solar, LLC, Orbit Bloom Energy, LLC, Nutmeg Solar, LLC, Northeast Energy Associates, L.P., NextEra Energy Seabrook, LLC, NextEra Energy Bluff Point, LLC, NextEra Energy Services Massachusetts, L.L.C., NextEra Energy Marketing, LLC, NEPM II, LLC, Montauk Energy Storage Center, LLC, Mantua Creek Solar, LLC, LI Solar Generation, LLC, Green Mountain Storage, LLC, Granite Reliable Power, LLC, Frontier Utilities New York LLC, FPL Energy Wyman IV, LLC, FPL Energy Wyman, LLC, FPL Energy Illinois Wind, LLC, FPL Energy Cape, LLC, Florida Power & Light Company, Farmington Solar, LLC, Energy Storage Holdings, LLC, Eight Point Wind, LLC, East Hampton Energy Storage Center, LLC, Coolidge Solar I, LLC.

Description: Triennial Market Power Analysis for Northeast Region of Coolidge Solar I, LLC, et al.

Filed Date: 1/3/23.

Accession Number: 20230103-5528.

Comment Date: 5 p.m. ET 3/6/23.

Docket Numbers: ER23-495-001.

Applicants: AES CE Solutions, LLC.

Description: Tariff Amendment: AES CE Solutions, LLC MBR Tariff to be effective 11/24/2022.

Filed Date: 1/5/23.

Accession Number: 20230105-5148.

Comment Date: 5 p.m. ET 1/26/23.

Docket Numbers: ER23-778-000.

Applicants: Avista Corporation.

Description: Petition for Limited Waiver of Avista Corporation.

Filed Date: 1/5/23.

Accession Number: 20230105-5101.

Comment Date: 5 p.m. ET 1/17/23.

Docket Numbers: ER23-780-000.

Applicants: Thousand Island Solar LLC.

Description: Thousand Island Solar LLC submits a Petition for Limited, Prospective Tariff Waiver with Expedited Action of the requirement in Section 25.6.2.3.1 of Attachment S of the NYISO OATT.

Filed Date: 1/5/23.

Accession Number: 20230105-5181.

Comment Date: 5 p.m. ET 1/13/23.

Docket Numbers: ER23-781-000.

Applicants: PJM Interconnection, L.L.C.

Description: § 205(d) Rate Filing: Original NSA, SA No. 6748; Queue No. AB2-040 to be effective 12/8/2022.

Filed Date: 1/6/23.

Accession Number: 20230106-5005.

Comment Date: 5 p.m. ET 1/27/23.

Docket Numbers: ER23-782-000.

Applicants: PJM Interconnection, L.L.C.

Description: § 205(d) Rate Filing: Original WMPA, Service Agreement No. 6760; Queue No. AF1-134 to be effective 12/7/2022.

Filed Date: 1/6/23.

Accession Number: 20230106-5019.

Comment Date: 5 p.m. ET 1/27/23.

Docket Numbers: ER23-783-000.

Applicants: Barrett Hempstead Battery Storage, LLC, Holtsville Brookhaven Battery Storage, LLC, Canal Southampton Battery Storage, LLC, Edwards Calverton Battery Storage, LLC.

Description: Rhynland Companies Request for a Limited Prospective Waiver of the Requirement in Section 25.6.2.3.1 of Attachment S of the New York Independent System Operator Inc.

Filed Date: 1/3/23.

Accession Number: 20230103-5530.

Comment Date: 5 p.m. ET 1/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 6, 2023.
Debbie-Anne A. Reese,
Deputy Secretary.

[FR Doc. 2023-00516 Filed 1-11-23; 8:45 am]

BILLING CODE 6717-01-P